DEPARTMENT OF LABOR

Employment and Training Administration

[TA-W-72,065]

Trinity Tank Car, Inc., a Subsidiary of Trinity Industries, Inc., Plants #19, 1200, 1017, 1110 & 1194, Longview, TX; Amended Certification Regarding Eligibility To Apply for Worker Adjustment Assistance

In accordance with Section 223 of the Trade Act of 1974, as amended (“Act”), 19 U.S.C. 2273, the Department of Labor issued a Certification of Eligibility to Apply for Worker Adjustment Assistance on December 23, 2009, applicable to workers of Trinity Tank Car, Inc., Plant #19, Longview, Texas. The notice was published in the Federal Register on February 16, 2010 (75 FR 7032).

At the request of the State Agency, the Department reviewed the certification for workers of the subject firm. The workers are engaged in the production of tank railcars.

The company official clarified that Trinity Industries, Inc. is the parent company of the subject firm.

Additional information also revealed that the production of tank railcars at Plant #19 was vertically integrated with the production of four other affiliate facilities in Longview, Texas: Plants #1200, 1017, 1110 and 1194. These other facilities operate in conjunction with Plant #19 in a vertically integrated production process and also experienced employment declines during the relevant period.

Based on these findings, the Department is amending this certification to also include workers from Trinity Tank Car, Inc., a subsidiary of Trinity Industries, Inc., Plants #1200, 1017, 1110 and 1194. The intent of the Department's certification is to include all workers employed at Trinity Tank Car, Inc., who were adversely affected by increased customer imports of tank railcars.

The amended notice applicable to TA-W-72,065 is hereby issued as follows:

All workers Trinity Tank Car, Inc., a subsidiary of Trinity Industries, Inc., Plants #19, 1200, 1017, 1110 and 1194, Longview, Texas who became totally or partially separated from employment on or after July 21, 2008, through December 23, 2011, and all workers in the group threatened with total or partial separation from employment on the date of certification through two years from the date of certification, are eligible to apply for adjustment assistance under Chapter 2 of Title II of the Trade Act of 1974, as amended.

Signed at Washington, DC this 23rd day of July 2010.
Richard Church,
Certifying Officer, Division of Trade Adjustment Assistance.

[FR Doc. 2010-19391 Filed 8-5-10; 8:45 am]

BILLING CODE 4510-FN-P